DEPARTMENT OF THE INTERIOR

Fish and Wildlife Service

Availability of an Environmental Action Statement and Receipt of an Application for a Permit To Enhance the Survival of the Hawaiian Duck or Koloa and Endangered Hawaiian Goose or Nene through a Safe Harbor Agreement for Umikoa Ranch, HI

AGENCY: Fish and Wildlife Service, Interior.

ACTION: Notice of availability.

SUMMARY: This notice advises the public that Umikoa Ranch, Limited (Ranch) has applied to the Fish and Wildlife Service (we, the Service) for an enhancement of survival permit pursuant to section 10(a)(1)(A) of the Endangered Species Act of 1973, as amended (Act) for Hawaiian Duck or Koloa (Anas wyvilliana) and Endangered Hawaiian Goose or Nene (Branta sandvicensis). The permit application includes a Safe Harbor Agreement (Agreement) between the Ranch, the Service, and the Hawaii Department of Land and Natural Resources. The proposed permit and Agreement would become effective upon initialization of the Agreement and remain in effect for 20 years. The Service has made a preliminary determination that the proposed Agreement and permit application are eligible for categorical exclusion under the National Environmental Policy Act of 1969 (NEPA). We explain the basis for this determination in an Environmental Action Statement, which also is available for public review.

We announce the opening of a 30-day comment period to receive comments from the public on the Applicant's enhancement of survival permit application, the accompanying proposed Agreement, and Environmental Action Statement. For further information and instruction on the reviewing and commenting process, see Public Review and Comment section below.

DATES: Written comments must be received by July 9, 2001.

ADDRESSES: Comments should be addressed to Mr. Paul Henson, Field Supervisor, U.S. Fish and Wildlife Service, PO Box 50088, Honolulu, Hawaii 96850; facsimile (808) 541-3470. (See Public Review and Comment section below.)

FOR FURTHER INFORMATION CONTACT: Ms. Gina Shultz at the above address or telephone 808-541-3441.

SUPPLEMENTARY INFORMATION:

Background

Under a Safe Harbor Agreement, participating property owners voluntarily undertake management activities on their property to enhance, restore, or maintain habitat benefitting species listed under the Act. Safe Harbor Agreements encourage private and other non-Federal property owners to implement conservation efforts for listed species by assuring property owners they will not be subjected to increased property use restrictions if their efforts attract listed species to their property or increase the numbers or distribution of listed species already on their property. Application requirements and issuance criteria for enhancement of survival permits through Safe Harbor Agreements are found in 50 CFR 17.22(c).

We have worked with the Ranch and the Hawaii Department of Land and Natural Resources to develop a Safe Harbor Agreement for the creation and enhancement of habitat for the endangered Hawaiian duck or koloa and Hawaiian goose or nene on Umikoa Ranch, Hawaii. Under this Agreement, the Ranch will: (1) Construct and maintain wetland and associated upland habitat for nene and koloa; (2) maintain fences that exclude cattle from newly created wetland and associated upland habitats; (3) allow for controlled grazing to prevent encroachment of kikuyu grass and for maintenance of open, short grass habitat for nene; (4) prevent the establishment of problematic alien invasive plant species; (5) implement a program to control predators in and around newly created habitats where koloa and nene are likely to occur; (6) prohibit hunting in areas within the upper portion of the Ranch managed for koloa and nene; and (7) prevent the introduction and establishment of non-native waterfowl.

We anticipate that this Agreement will result in the following benefits: (1) Establishment of a self-sustaining population or expansion of core populations for nene and koloa on the island of Hawaii; (2) reduced likelihood of hybridization of koloa with feral mallards and preservation of genetic integrity of koloa on the island of Hawaii; (3) increased genetic diversity of nene; (4) safe nesting sites that will support reproduction and an increased number of koloa and nene in the wild (anticipated five pairs of koloa and ten pairs of nene); (5) greater understanding of the effectiveness of management techniques for koloa and nene; (6) and additional sources of koloa and nene for future management activities.

Consistent with Safe Harbor policy, we propose to issue a permit to the Ranch authorizing incidental take of koloa and nene which occur on the enrolled lands, and their progeny, as a result of lawful activities at the Ranch, so long as baseline conditions are maintained and terms of the Agreement are implemented. These activities include unintentional incidental take of koloa and nene from: (1) Koa forestry; (2) eco-tourism; (3) cultivation of agricultural crops; and (4) cattle grazing. We expect that the maximum level of incidental take authorized under the Agreement will never be realized. The Ranch has no plans to change land uses. Further, we anticipate that any koloa or nene taken will not be injured or harmed, but will be relocated, with permission from landowners, to other suitable lands. We expect that the creation and enhancement of wetland and associated upland habitat will result in the establishment of a self-sustaining permanent population or expansion of core populations for nene and koloa on the island of Hawaii. Therefore, the cumulative impact of the Agreement and the activities it covers, which are facilitated by the allowable incidental take, will provide a net conservation benefit to koloa and nene.

We provide this notice pursuant to section 10(c) of the Act and pursuant to implementing regulations for NEPA (40 CFR 1506.6). We will evaluate the permit application, associated documents, and comments submitted thereon to determine whether the permit application meets the requirements of section 10(a) of the Act and NEPA regulations. If, upon completion of the 30-day comment period, we determine that the requirements are met, we will sign the Agreement and issue an enhancement of survival permit under section 10(a)(1)(A) of the Act to Umikoa Ranch for take of koloa and nene incidental to otherwise lawful activities in accordance with the terms of the Agreement.

Public Review and Comments

Individuals wishing copies of the permit application, the Environmental Action Statement, or copies of the full text of the Agreement, including a map of the proposed permit area, references, and legal descriptions of the proposed permit area, should contact the office and personnel listed in the ADDRESSES section above.

If you wish to comment on the permit application, Environmental Action Statement, or the Agreement, you may submit your comments to the address listed in the ADDRESSES section of this document. Comments and materials received, including names and addresses of respondents, will be available for public review, by appointment, during normal business hours at the address in the ADDRESSES section above and will become part of the public record, pursuant to section 10(c) of the Act.

Dated: May 23, 2001.
Anne Badgley,
Regional Director, Region 1, Portland, Oregon.

[FR Doc. 01-14324 Filed 6-6-01; 8:45 am]

BILLING CODE 4310-55-P